OFFICE OF PERSONNEL MANAGEMENT

Civil Service Retirement System Board of Actuaries Meeting

AGENCY: Office of Personnel Management.

ACTION: Notice of meeting.

SUMMARY: The Civil Service Retirement System Board of Actuaries plans to meet at 10 a.m., on Thursday, April 11, 2019. The purpose of the meeting is for the Board to review the actuarial methods and assumptions used in the valuations of the Civil Service Retirement and Disability Fund (CSRDF).

DATES: The meeting will be April 11, 2019 at 10 a.m.

ADDRESSES: U.S. Office of Personnel Management (OPM), 1900 E Street NW, Room 4351, Washington, DC 20415.

FOR FURTHER INFORMATION CONTACT: Gregory Kissel, Senior Actuary for Pension Programs, U.S. Office of Personnel Management, 1900 E Street NW, Room 4316, Washington, DC 20415. Phone (202) 606-0722 or email at actuary@opm.gov.

SUPPLEMENTARY INFORMATION:

Agenda

1. Summary of recent and proposed legislation and regulations

2. Review of actuarial assumptions

3. CSRDF Annual Report

Persons desiring to attend this meeting of the Civil Service Retirement System Board of Actuaries, or to make a statement for consideration at the meeting, should contact OPM at least 5 business days in advance of the meeting date at the address shown below. Any detailed information or analysis requested for the Board to consider should be submitted at least 15 business days in advance of the meeting date. The manner and time for any material presented to or considered by the Board may be limited.

For the Board of Actuaries.
Alexys Stanley,
Regulatory Affairs Analyst.

[FR Doc. 2019-05418 Filed 3-18-19; 4:15 pm]

BILLING CODE 6325-63-P